DEPARTMENT OF EDUCATION

Notice Announcing Availability of Funds and Application Deadline for the 2019 Immediate Aid to Restart School Operations Program; Disaster Recovery Assistance for Education

AGENCY: Office of Elementary and Secondary Education, Department of Education.

ACTION: Notice.

SUMMARY: The Department of Education (Department) is issuing a notice announcing the availability of funds and the application deadline for eligible applicants for the 2019 Immediate Aid to Restart School Operations (2019 Restart) program under title VIII of the Additional Supplemental Appropriations for Disaster Relief Act of 2019 (hereafter referred to as the Disaster Supplemental), Catalog of Federal Domestic Assistance (CFDA) number 84.938A. This notice relates to the approved information collection under OMB control number 1810-0740.

DATES:

Applications Available: September 13, 2019.

Deadline for Transmittal of Applications: October 23, 2019.

ADDRESSES: The addresses pertinent to this program, including the addresses for obtaining and submitting an application, can be found under SUPPLEMENTARY INFORMATION.

FOR FURTHER INFORMATION CONTACT: Molly Budman, U.S. Department of Education, 400 Maryland Avenue SW, Room 3W303, Washington, DC 20202-6450. Telephone: (202) 453-5791. Email: K12.Restart@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: Under the 2019 Restart program, we will award grants to eligible State educational agencies (SEAs) to assist local educational agencies (LEAs) and non-public schools with expenses related to the restart of elementary and secondary schools affected by the consequences of Hurricanes Florence and Michael, Typhoon Mangkhut, Super Typhoon Yutu, and wildfires, earthquakes, and volcanic eruptions occurring in calendar year 2018 and tornadoes and floods occurring in calendar year 2019 in those areas for which a major disaster or emergency has been declared under section 401 or 501 of the Robert T. Stafford Disaster Relief and Emergency Act (42 U.S.C. 5170 and 5190)(hereafter referred to as “a covered disaster or emergency”). Funds may be used to assist school administrators and personnel in restarting school operations, re-opening schools, and re-enrolling students.

Background: This notice announces availability of funds and application deadline for eligible applicants for the 2019 Restart program. The Disaster Supplemental, which was signed into law on June 6, 2019, provides $17.2 billion in supplemental appropriations to Federal departments and agencies for expenses related to the consequences of disasters in 2018 and 2019 for which a covered disaster or emergency has been declared, including $165 million for education-related disaster recovery activities. The Disaster Supplemental also provides the Secretary of Education with discretion to determine which disaster recovery programs to fund. The Department plans to award funds through the 2019 Restart program, Temporary Emergency Impact Aid for Displaced Students, Emergency Assistance to Institutions of Higher Education, and Project School Emergency Response to Violence.

Exemption From Rulemaking: The 2019 Restart program is exempt from the rulemaking requirements in section 437 of the General Education Provisions Act (GEPA) (20 U.S.C. 1232) and section 553 of the Administrative Procedure Act (APA) (5 U.S.C. 553), as established in division B, subdivision 1, title VIII, “Hurricane Education Recovery” paragraph (6), of Public Law 115-123, the Bipartisan Budget Act of 2018, and title VIII of the Disaster Supplemental.

Program Authority: Title VIII of the Disaster Supplemental, Public Law 116-20 (enacted June 6, 2019).

Applicable Regulations: (a) The Education Department General Administrative Regulations in 34 CFR parts 76, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The open licensing requirement in 2 CFR 3474.20 does not apply to the 2019 Restart program.

II. Award Information

Estimated Available Funds: Congress appropriated $165 million to the Department under the Disaster Supplemental that will be used to make awards under this program and others authorized in the law. Consequently, the specific amount available for the 2019 Restart program will be based on the Department's assessment of relative need across funded programs as determined by such factors as the number of applicants and their demonstrated need for assistance. For this reason, awards to eligible 2019 Restart applicants may be adjusted downward (or upward) to match available funding.

Note: We strongly encourage SEAs to provide services or assistance directly to LEAs or non-public schools, or award Restart funds to eligible LEAs, at the earliest possible date. SEAs and LEAs must obligate the funds in a timely fashion to address the immediate needs of both public and non-public schools with expenses related to the restart of elementary schools and secondary schools.

Grant Period under the 2019 Restart Program: Funds received under this program by SEAs and LEAs (including those funds used by the public agencies to provide services and assistance to non-public schools) must be expended within 24 months of obligation of the funds by the Department. Funds are available for obligation by the Department through September 30, 2020.

III. Eligibility Information

1. Eligible Applicants: SEAs affected by the following covered disasters or emergencies: Hurricanes Florence and Michael, Typhoon Mangkhut, Super Typhoon Yutu, and wildfires, earthquakes, and volcanic eruptions occurring in calendar year 2018 and tornadoes and floods occurring in calendar year 2019 in those areas for which a major disaster or emergency has been declared under section 401 or 501 of the Robert T. Stafford Disaster Relief and Emergency Act (42 U.S.C. 5170 and 5190) and that have education-related needs resulting from the covered disaster or emergency. A general list of disaster declarations and emergency declarations can be found at www.fema.gov/disasters.

2. Cost Sharing or Matching: This program does not require cost sharing or matching.

3. Subgrantees: The SEA may use Restart funds to provide services or assistance directly to eligible LEAs or non-public schools, or it may award Restart funds to eligible LEAs to reimburse them for costs incurred, or to provide funding for other allowable purposes. In providing services or assistance to non-public schools, control of the funds must be maintained by the SEA, and LEA, or another public agency.

IV. Application and Submission Information

1. Application Submission Instructions: Applications for this program must be submitted in both of the following two ways:

(a) Submit an application in electronic portable document format (PDF) or Microsoft Word format via email to k12.restart@ed.gov. Questions regarding application submission can be directed to the program contact person listed under FOR FURTHER INFORMATION CONTACT.

(b) Mail the original and two copies of your application by express mail service through the U.S. Postal Service or through a commercial carrier to the program contact person listed under FOR FURTHER INFORMATION CONTACT.

2. Intergovernmental Review: This program is subject to Executive Order 12372 and the regulations in 34 CFR part 79. However, under 34 CFR 79.8(a), we waive intergovernmental review in order to make timely awards.

V. Application Review Information

1. School Data: Applicants must provide data on the number of public and non-public students who were enrolled during the school year prior to the covered disaster or emergency in elementary and secondary schools that were closed as a result of the covered disaster or emergency.

2. Impact and Needs Assessment: Applicants must also describe the impact of the covered disaster or emergency on each affected LEA and non-public school and the activities, materials, and services required to restart school operations, re-open schools, and re-enroll students in each affected LEA and non-public school. Note that this description may cover activities already completed or prospective actions expected to continue over a period of time.

3. Estimated or Actual Costs: Applicants must identify estimated or actual costs of meeting the recovery needs identified in paragraph 2, Impact and Needs Assessment, which they propose to pay with funds provided through the 2019 Restart program.

4. Proposed Use of Funds: Applicants must describe the services and assistance, consistent with allowable uses of funds under the 2019 Restart program, which they propose to provide with the funds requested in paragraph 3, Estimated or Actual Costs.

Restart funds may be used for the following activities: Recovery of student and personnel data and other electronic information; replacement of school district information systems, including hardware and software; financial operations; reasonable transportation costs; rental of mobile educational units and leasing of neutral sites or spaces; initial replacement of instructional materials and equipment, including textbooks; redeveloping instructional plans, including curriculum development; initiating and maintaining education and support services; specific educator-related costs; and other activities related to the purpose of the program subject to approval by the Department. Please note that the legislation expressly prohibits the use of Restart funds for construction or major renovation of schools. If necessary and reasonable, these funds may be used for minor remodeling and repair.

Note: With regard to paragraphs 1-4, applicants are encouraged to submit their best available data as of the application deadline. Applicants that meet the initial application deadline may provide any updated data through November 22, 2019 to k12.restart@ed.gov. SEAs must submit any application amendments affecting applications under this program to the Department no later than November 22, 2019.

5. Compliance Assurance: Each applicant must provide an assurance that it will comply with all requirements that apply to the 2019 Restart program, including, but not limited to, certifying that the SEA will use funds only for allowable activities, complying with reporting requirements, reserving an amount of funding to be made available to non-public schools based on needs and proportionate to enrollment, cooperating with any Inspector General inquiries, complying with applicable Office of Management and Budget assurances, signing and submitting a certification regarding lobbying using Department Form 80-0013, and complying with any other applicable assurances and certifications.

6. Risk Assessment and Specific Conditions: Consistent with 2 CFR 200.205, before awarding grants under this program, the Department conducts a review of the risks posed by applicants. Under 2 CFR 3474.10, the Secretary may impose specific conditions, and, in appropriate circumstances, high-risk conditions on a grant if the applicant or grantee is not financially stable; has a history of unsatisfactory performance; has a financial or other management system that does not meet the standards in 2 CFR part 200, subpart D; has not fulfilled the conditions of a prior grant; or is otherwise not responsible.

7. Additional Monitoring: This program is designated as “susceptible to significant improper payments” for purposes of the Improper Payments Information Act of 2002 (31 U.S.C. 3321 note). See title VIII of the Disaster Supplemental, and Public Law 115-123, the Bipartisan Budget Act of 2018, division B, subdivision 1, title XII, § 21208(a), February 9, 2018, 132 Stat. 108. Consequently, once 2019 Restart program grantees have expended more than $10,000,000—a level of expenditures that the Department anticipates will be met—there will be additional requirements for grantees under the program, including making expenditure information and documentation available for review by the Department. We will provide additional information about this requirement after we make awards, providing advanced notice to ensure grantees understand their responsibilities for documenting all expenditures of 2019 Restart funds. In general, these documentation requirements are identical to those ordinarily required for all Federal education program expenditures; the primary impact of the Improper Payments Information Act will be increased review of this documentation.

VI. Award Administration Information

1. Award Notices: If you receive a grant award under the 2019 Restart program, we will notify your U.S. Representative(s) and U.S. Senators, if applicable, and send you a Grant Award Notification (GAN); or we may send you an email containing a link to access an electronic version of your GAN. We may also notify you informally.

2. Reporting: (a) If you apply for a grant under this program, you must ensure that you have in place the necessary processes and systems to comply with the reporting requirements in 2 CFR part 170 should you receive funding. This does not apply if you have an exception under 2 CFR 170.110(b).

(b) At the end of your project period, you must submit a final performance report, including financial information, as directed by the Secretary. The Secretary may also require more frequent performance reports under 34 CFR 75.720(c).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or PDF. To use PDF you must have Adobe Acrobat Reader, which is available free at the site.

You may also access documents of the Department published in the Federal Register by using the article search feature at www.federalregister.gov. Specifically, through the advanced search feature at this site, you can limit your search to documents published by the Department.

Frank Brogan,
Assistant Secretary for Elementary and Secondary Education.

[FR Doc. 2019-19880 Filed 9-12-19; 8:45 am]

BILLING CODE 4000-01-P